DEPARTMENT OF COMMERCE

International Trade Administration

[A-489-842]

Prestressed Concrete Steel Wire Strand From the Republic of Turkey: Preliminary Results of the Antidumping Duty Administrative Review; 2020-2022

AGENCY: Enforcement and Compliance, International Trade Administration, Department of Commerce.

SUMMARY: The U.S. Department of Commerce (Commerce) preliminarily determines that the sole producer/exporter subject to this administrative review made sales of subject merchandise at less than fair value (LTFV) during the period of review (POR) September 30, 2020, through January 31, 2022. Interested parties are invited to comment on these preliminary results.

DATES: Applicable September 1, 2022.

FOR FURTHER INFORMATION CONTACT: Ajay Menon or Macey Mayes, AD/CVD Operations, Office II, Enforcement and Compliance, International Trade Administration, U.S. Department of Commerce, 1401 Constitution Avenue NW, Washington, DC 20230; telephone: (202) 482-0208 or (202) 482-4473, respectively.

SUPPLEMENTARY INFORMATION:

Background

On April 12, 2022, based on timely requests for review, in accordance with 19 CFR 351.221(c)(1)(i), we initiated an administrative review of the antidumping duty order on prestressed concrete steel wire strand (PC strand) from the Republic of Turkey (Turkey).¹ For a complete description of the events that followed the initiation of this review, see the Preliminary Decision Memorandum.²

¹ See Initiation of Antidumping and Countervailing Duty Administrative Reviews, 87 FR 21619 (April 12, 2022).

² See Memorandum, “Decision Memorandum for the Preliminary Results of the 2020-2022 Administrative Review of the Antidumping Duty Order on Prestressed Concrete Steel Wire Strand from the Republic of Turkey,” dated concurrently with, and hereby adopted by, this notice (Preliminary Decision Memorandum).

For a full description of the methodology underlying our conclusions, see the Preliminary Decision Memorandum. A list of topics included in the Preliminary Decision Memorandum is attached in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Scope of the Order ³

³ See Prestressed Concrete Steel Wire Strand from Argentina, Colombia, Egypt, the Netherlands, Saudi Arabia, Taiwan, the Republic of Turkey, and the United Arab Emirates: Antidumping Duty Orders, 86 FR 7703 (February 1, 2021) (Order).

The products covered by the Order include prestressed concrete steel wire strand from Turkey. For a complete description of the scope of the Order, see the Preliminary Decision Memorandum.

Methodology

Commerce is conducting this review in accordance with section 751(a)(1)(B) and (2) of the Tariff Act of 1930, as amended (the Act). In reaching these preliminary results, Commerce relied on facts otherwise available, with the application of adverse inferences, in accordance with sections 776(a) and (b) of the Act. For further information, see “Application of Facts Otherwise Available and Use of Adverse Inferences” in the accompanying Preliminary Decision Memorandum.

Preliminary Results of Review

We preliminarily determine that the following estimated dumping margin exists for Celik Halat ve Tel Sanayi A.S. for the period September 30, 2020, through January 31, 2022:

Producer/exporter | Estimated dumping margin (percent) | Cash deposit rate adjusted for subsidy offset (percent) ⁴
Celik Halat ve Tel Sanayi A.S | 53.65 | 53.16

Public Comment

Interested parties may submit case briefs or other written comments to Commerce no later than 30 days after the date of publication of these preliminary results of review in the Federal Register.⁵ Rebuttal comments, limited to issues raised in the case briefs, may be filed no later than seven days after the deadline for filing case briefs.⁶ Parties who submit case briefs or rebuttal briefs in this proceeding are encouraged to submit with each argument: (1) a statement of the issue; (2) a brief summary of the argument; and (3) a table of authorities.⁷ Case and rebuttal briefs should be filed using ACCESS.⁸ An electronically filed document must be received successfully in its entirety by ACCESS by 5:00 p.m. Eastern Time on the established deadline. Note that Commerce has temporarily modified certain of its requirements for serving documents containing business proprietary information.⁹

⁴ We subtracted 0.49 percent, the amount of export subsidies Commerce calculated in the most recently completed segment of the companion countervailing duty proceeding, from the dumping margin of 53.65 percent. See Prestressed Concrete Steel Wire Strand from the Republic of Turkey: Notice of Court Decision Not in Harmony With the Final Determination of Countervailing Duty Investigation; Notice of Amended Final Determination, 87 FR 34653 (June 7, 2022); see also Prestressed Concrete Steel Wire Strand from the Republic of Turkey: Notice of Court Decision Not in Harmony With the Final Determination of Antidumping Investigation; Notice of Amended Final Determination, 87 FR 34241 (June 6, 2022) (Amended Final Determination).

⁵ See 19 CFR 351.309(c).

⁶ See 19 CFR 351.309(d).

⁷ See 19 CFR 351.309(c)(2) and (d)(2).

⁸ See 19 CFR 351.303.

⁹ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, U.S. Department of Commerce, filed electronically via ACCESS within 30 days after the date of publication of this notice.¹⁰ Hearing requests should contain: (1) the party's name, address, and telephone number; (2) the number of participants; and (3) a list of issues to be discussed. Issues addressed at the hearing will be limited to those raised in the briefs. If a request for a hearing is made, Commerce will inform parties of the scheduled date for the hearing.¹¹

¹⁰ See 19 CFR 351.310(c).

¹¹ See 19 CFR 351.310(d).

Unless the deadline is extended pursuant to section 751(a)(3)(A) of the Act, we intend to issue the final results of this administrative review, including the results of our analysis of the issues raised by the parties in their case briefs, with 120 days after the date of publication of this notice.¹²

¹² See section 751(a)(3)(A) of the Act.

Assessment Rates

Upon completion of the final results of this administrative review, Commerce shall determine, and U.S. Customs and Border Protection (CBP) shall assess, antidumping duties on all appropriate entries covered by this review.¹³ We intend to instruct CBP to take into account the “provisional measures deposit cap,” in accordance with 19 CFR 351.212(d). The final results of this review shall be the basis for the assessment of antidumping duties on entries of merchandise covered by the final results of this review and for future deposits of estimated duties, where applicable.¹⁴

¹³ See 19 CFR 351.212(b).

¹⁴ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the company listed above will be equal to the weighted-average dumping margin established in the final results of this review, except if the rate is less than 0.50 percent and, therefore, de minimis within the meaning of 19 CFR 351.106(c)(1), in which case the cash deposit rate will be zero; (2) for companies not participating in this review, the cash deposit rate will continue to be the company-specific cash deposit rate published for the most recently completed segment; (3) if the exporter is not a firm covered in this review, or the LTFV investigation, but the producer is, then the cash deposit rate will be the cash deposit rate established for the most recently completed segment for the producer of the merchandise; and (4) the cash deposit rate for all other producers or exporters will continue to be 17.39 percent, the all-others rate established in the Amended Final Determination, adjusted for export subsidies.¹⁵ These cash deposit requirements, when imposed, shall remain in effect until further notice.

¹⁵ See Amended Final Determination, 87 FR at 34241.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

Commerce is issuing and publishing these results in accordance with sections 751(a)(1) of the Act, and 19 CFR 351.213(d).

Dated: August 25, 2022.
Lisa W. Wang,
Assistant Secretary for Enforcement and Compliance.

Appendix

List of Topics Discussed in the Preliminary Decision Memorandum

I. Summary

II. Background

III. Scope of the Order

IV. Application of Facts Available and Use of Adverse Inference

V. Recommendation

[FR Doc. 2022-18916 Filed 8-31-22; 8:45 am]

BILLING CODE 3510-DS-P